DEPARTMENT OF THE INTERIOR

Public Meetings of the Invasive Species Advisory Committee

AGENCY: Office of the Secretary, Interior.

ACTION: Notice.

SUMMARY: Pursuant to the provisions of the Federal Advisory Committee Act, notice is hereby given of a three day meeting of the Invasive Species Advisory Committee (ISAC).

DATES: Meeting of the Invasive Species Advisory Committee: Tuesday, February 27, 2018: 9:00 a.m. to 5:00 p.m.; Wednesday, February 28, 2018: 9:00 a.m. to 5:00 p.m.; Thursday, March 1, 2018; 9:00 a.m.-5:00 p.m.

ADDRESSES: Smithsonian Institution National Museum of the American Indian, 4th and Independence Avenue SW, Washington, DC 20560. The general session will be held in the Conference Center (4th Floor). Note: All meeting participants and interested members of the public must register their attendance online at www.invasivespecies.gov. Attendees must pass through security screening upon entering the facility.

FOR FURTHER INFORMATION CONTACT: Kelsey Brantley, National Invasive Species Council Program Specialist and ISAC Coordinator, Phone: (202) 208-4122; Fax: (202) 208-4118, email: Kelsey_Brantley@ios.doi.gov.

SUPPLEMENTARY INFORMATION: Comprised of 12 non-federal members, the purpose of the Advisory Committee is to provide information and advice for consideration by the Council, as authorized by Executive Order 13112 as amended by Executive Order 13751. The National Invasive Species Council (NISC) is the interdepartmental body charged with providing the vision and leadership necessary to coordinate, sustain, and expand federal efforts to safeguard the interests of the United States through the prevention, eradication, and control of invasive species, as well as the restoration of ecosystems and other assets impacted by invasive species.

The Council is co-chaired by the Secretary of the Interior, the Secretary of Agriculture, and the Secretary of Commerce. The purpose of this meeting is to convene the ISAC in a manner that enables it to provide information and advice for consideration by NISC on matters related to NISC priorities. The meeting will take place over a three day period with each day having a unique agenda that, collectively, enable a combination of public input and focused ISAC discussions that ultimately result in the provision of advice to NISC. The first day of the meeting (February 27th) will be carried out through a NISC Stakeholders Forum convened as two 2.5 hour public listening sessions that invite responses to the following questions from private sector, academic, and non-governmental perspectives (Session 1), as well as from state, territory, and tribal perspectives (Session 2):

1. How can NISC help advance cooperative federalism—an approach in which national, state, territorial, tribal, and local governments work together to solve our shared invasive species challenges—in order to better protect our nation's biodiversity, land and water resources, public health, and other assets?

2. How can NISC facilitate more effective partnerships with the private sector in order to reduce the risks of invasive species crossing U.S. borders?

3. What are the highest priority opportunities to streamline federal regulatory procedures to make it easier and more cost-effective for various sectors of society to prevent, eradicate, and control invasive species?

4. How can NISC facilitate the mobilization of non-native species data into public information systems in order to improve decision support capacities at all levels of government and for the private sector?

5. How can NISC foster the development and application of innovative tools and technologies to enable the prevention, eradication, and control of invasive species in a more timely and effective manner?

Written responses to these questions will be accepted from the public until the close of business on February 16, 2018. Correspondence should be directed to Kelsey Brantley at the address listed at the end of this notice. Electronic submission is strongly preferred. ISAC will consider these responses when preparing its advice to NISC.

On the second day of the meeting, ISAC members will work together to summarize the key findings from the NISC Stakeholders Forum and draft advice to the Council based on these findings. On the third day of the meeting, ISAC will present its preliminary findings and advice to a Federal and State Leadership Roundtable comprised of NISC members, state and territory Governors, and directors of selected multi-state associations. Roundtable participants will discuss ISAC's input and provide feedback to ISAC. ISAC will then meet to discuss the outcomes of the Roundtable and revise its findings and advice as deemed appropriate, with the intent of adopting an advisory Memorandum to NISC by the close of the meeting. The meeting agenda will be available on the NISC website at http://www.invasivespecies.gov. All reference materials will be posted on or about Tuesday, February 20, 2018.

Jamie K. Reaser,
Executive Director, National Invasive Species Council (NISC).

[FR Doc. 2018-01538 Filed 1-29-18; 8:45 am]

BILLING CODE 4334-63-P